FEDERAL EMERGENCY MANAGEMENT AGENCY

44 CFR Part 67

[Docket No. FEMA-B-7425]

Proposed Flood Elevation Determinations

AGENCY: Federal Emergency Management Agency (FEMA).

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Acting Administrator, Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

State | City/town/county | Source of flooding | Location | #Depth in feet above ground. *Elevation in feet. (NGVD): Existing | #Depth in feet above ground. *Elevation in feet. (NGVD): Modified
Washington | City of Anacortes, Skagit County | Burrows Bay | Along shoreline to Fidalgo Head including Burrows Pass | None | *7
|  | Guemes Channel | Along shoreline from Shannon Point to Fidalgo Bay | None | *9
|  | Fidalgo Bay | Along shoreline to Guemes Channel | None | *7
|  | Rosario Strait | Along shoreline from Fidalgo Head to Shannon Point | None | *9
Depth in feet above ground
Maps are available for inspection at City Hall, 904 6th Street, Anacortes, Washington.
Send comments to The Honorable Dean Maxwell, Mayor, City of Anacortes, P.O. Box 547, Anacortes, Washington 98221.
Wyoming | Town of Dubois, Freemont | Wind River | Approximately 3,380 feet upstream of State Highway 26 | None | +6,882
|  |  | Approximately 450 feet upstream of Soda Springs Drive | None | +6,983
|  | Horse Creek | At confluence with Wind River | None | +6,912
|  |  | Approximately 1,950 feet upstream of Clendenning Street | None | +6,953
Depth in feet above ground
Maps are available for inspection at Town Hall, 712 Meckem Street, Dubois, Wyoming.
Send comments to The Honorable Bob Baker, Mayor, Town of Dubois, Town Hall, P.O. Box 555, Dubois, Wyoming 82513
| Freemont County | Wind River | Approximately 2,400 feet upstream of State Highway 26 | None | +6,878
|  |  | Approximately 2,200 feet upstream of Soda Springs Drive | None | +6,993
|  | Horse Creek | Approximately 2,000 feet upstream of Clendenning Street | None | +6,954
|  |  | Approximately 1,950 feet upstream of Clendenning Street | None | +6,955
Depth in feet above ground
Maps are available for inspection at the Planning Department, 450 North 2nd Street, Room 360, Lander, Wyoming.
Send comments to The Honorable Scott Lander, Chairman, Freemont County Commissioners, 450 North 2nd Street, Lander, Wyoming 82520.

Flooding source(s) | Location of referenced elevation | Elevation in feet (*NGVD): Effective | Elevation in feet (*NGVD): Modified | Communities affected
KANSAS
Sedgwick County, Kansas and Incoporated Areas
Middle Fork Chisholm Creek | Approximately 100 feet downstream of Oliver Street | None | *1,363 | City of Kechi.
| Just upstream of Kechi Road | None | *1,372 |
# Depth in feet above ground
ADDRESSES
City of Kechi:
Maps are available for inspection at 200 West Kechi Road, Kechi, Kansas.
Send comments to The Honorable Ed Parker, Mayor, City of Kechi, 200 West Kechi Road, Kechi, Kansas.
Arkansas River | Approximately 4,400 feet upstream of Washington Street | None | *1,252 | City of Derby.
Cowskin Creek | Approximately 3,500 feet downstream of State Highway 42 | None | *1,297 | City of Wichita.
| Approximately 800 feet downstream of State Highway 42 | None | *1,300
| Approximately 3,400 feet downstream Kansas Southwest Railroad | None | *1,279 | Sedgewick County.
| Just downstream of 21st Street | None | *1,345 |
| Approximately 1,550 feet downstream of 53rd Street | *1,370 | *1,370 |
| Approximately 1,500 feet downstream of 53rd Street | *1,370 | *1,370 | City of Colwich.
Dry Creek North (of Cowskin Creek) | Approximately 300 feet upstream of 21st Street | None | *1,346 | Sedgewick County.
| Just downstream of 167th Street | None | *1,386 |
Dry Creek South (of Cowskin Creek) | Approximately 3,500 downstream of Ridge Road | None | *1,292 | Sedgewick County.
| Just downstream of 103rd Street | None | *1,316
Little Arkansas River | Just downstream of 5th Street | None | *1,339 | Sedgewick County.
| Just downstream of 125th Street | *1,374 | *1,372 |
Middle Fork Chisholm Creek | Approximately 450 feet downstream of State Highway 254 | None | *1,360 | Sedgewick County.
| Approximately 100 feet upstream of Oliver Street | None | *1,367
Spring Creek | Approximately 2,850 feet downstream of Atchinson, Topeka, and Santa Fe Railroad | *1,242 | *1,241 | Sedgewick County.
| Approximately 350 feet upstream of Woodlawn Boulevard | *1,258 | *1,258 |
Spring Creek | Approximately 1,550 feet upstream of Rock Road | None | *1,270 | Sedgewick County.
| Just downstream of 63rd Street | None | *1,304
# Depth in feet above ground
ADDRESSES:
Sedgwick County and Unincorporated Areas:
Maps are available for inspection at 1250 South Seneca, Wichita, Kansas.
Send comments to The Honorable Ben Sciortino, Chairman, Board of Commissioners, 525 North Main, Suite 320, Wichita, Kansas 67203.
City of Derby:
Maps are available for inspection at 611 Mulberry Road, Derby, Kansas.
Send comments to The Honorable Richard Standrich, Mayor, City of Derby, 611 North Mulberry Road, Derby, Kansas 67037.
City of Colwich:
Maps are available for inspection at P.O. Box 158, Colwich, Kansas.
Send comments to The Honorable Lavina Keiter, Mayor, City of Colwich, 310 South Second Street, Colwich, Kansas 67030.
City of Wichita:
Maps are available for inspection 455 North Main Street, 8th Floor, Wichita, Kansas.
Send comments to The Honorable Bob Knight, Mayor, City of Wichita, 455 North Main Street, 13th Floor, Wichita, Kansas 67202.
MISSOURI
Gasconade County, Missouri and Incorporated Areas
Frene Creek | At the confluence with the Missouri River | None | *518 | City of Hermann.
| Approximately 3,400 feet upstream of High School Driveway | None | *530 |
| Approximately 2,100 feet upstream of High School Driveway | None | *527 | Gasconade County.
| Approximately 3,500 feet upstream of High School Driveway | None | *531 |
# Depth in feet above ground
ADDRESSES:
Gasconade County and Unincorporated Areas:
Maps are available for inspection at City Hall, 207 Schiller Street, Hermann, Missouri.
Send comments to The Honorable Doris Binkholder, Mayor, City of Hermann, 207 Schiller Street, Hermann, Missouri 65041.
City of Hermann:
Maps are available for inspection at 119 East First Street, Hermann, Missouri.
Send comments to The Honorable Charles Schlottach, Presiding Commissioner, 119 East First Street, Room 2, Hermann, Missouri 65041.
OREGON
Clatsop County, Oregon and Incorporated Areas
Beerman Creek | Confluence with Necanicum River | None | *17 | Clatsop County
| Approximately 5,000 feet upstream of Beerman Creek Road | None | *115 |
Neawanna Creek | Just downstream of 12th Avenue | *12 | *12 | Clatsop County.
| Approximately 1,400 feet downstream of Broadway Drive | *13 | *13 |
| Approximately 1,200 feet South of intersection with U.S. 101 and Old Railroad Grade | *16 | *17 |
Necanicum River | Approximately 1,100 feet downstream of Avenue U | *13 | *14 | Clatsop County.
| Just upstream of Howard Johnson Road | *34 | *35 |
| Approximately 1,600 feet downstream of Big Driveway Road | *44 | *44 |
| Approximately 4,000 feet upstream of Big Driveway Road | *58 | *61 |
Necanicum River Overflow | Just upstream of Rippett Road | None | *31 | Clatsop County.
| Approximately 1,000 feet North of the intersection of Oregon Coast Highway and U.S. 26 | None | *41 |
Upper Neawanna Creek | Confluence with Neawanna Creek | None | *15 | Clatsop County.
| Approximately 860 feet upstream of Wahanna Road | None | *26 |
Neawanna Creek | Just upstream of 12th Avenue | *12 | *12 | City of Seaside.
| Just upstream of Brodway Drive | *12 | *14 |
| Approximately 1,500 feet upstream of Avenue S | None | *16 |
Necanicum River | Just downstream of 12th Avenue | *11 | *11 | City of Seaside.
| Just downstream of Avenue G | *12 | *13 |
| Approximately 450 feet downstream U.S. Route 101 | *28 | *28 |
Necanicum River Overflow | Just downstream of Rippett Road | None | *31 | City of Seaside.
# Depth in feet above ground
ADDRESSES:
Clatsop County and Unincorporated Areas:
Maps are available for inspection at City Hall, 749 Commercial Street, Astoria, Oregon.
Send comments to The Honorable George Kiepke, Chairman, Clatsop County, Board of Commissioners, City Hall, 749 Commercial Street, Astoria, Oregon 97103.
City of Seaside:
Maps are available for inspection at the Public Works Building, 1387 Avenue U, Seaside, Oregon.
Send comments to The Honorable Rosemary Baker-Monaghan, Mayor, City of Seaside, City Hall, 989 Broadway, Seaside, Oregon 97138.

(Catalog of Federal Domestic Assistance No. 83.100, “Flood Insurance.”)
Dated: March 13, 2002.
Robert F. Shea,
Acting Administrator, Federal Insurance and Mitigation Administration.

[FR Doc. 02-6573 Filed 3-18-02; 8:45 am]

BILLING CODE 6718-04-P